DEPARTMENT OF LABOR

Employment and Training Administration

[TA-W-58,569]

OBG Distribution Company, Ltd., Celina, Tennessee; Notice of Affirmative Determination Regarding Application for Reconsideration

By letter dated February 21, 2006, a petitioner requested administrative reconsideration of the Department of Labor's Notice of Negative Determination Regarding Eligibility to Apply for Worker Adjustment Assistance, applicable to workers of the subject firm. The denial notice was signed on February 7, 2006, and published in the Federal Register on March 2, 2006 (71 FR 10716).

The investigation revealed that the petitioning workers of this firm or subdivision do not produce an article within the meaning of section 222 of the Act.

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 14th of April, 2006.
Elliott S. Kushner,
Certifying Officer, Division of Trade Adjustment Assistance.

[FR Doc. E6-6092 Filed 4-21-06; 8:45 am]

BILLING CODE 4510-30-P